DEPARTMENT OF THE TREASURY

Proposed Collection; Comment Request; Small Business Lending Fund (SBLF)

AGENCY: Departmental Offices, Treasury.

ACTION: Notice and request for comments.

SUMMARY: The Department of the Treasury, as part of its continuing effort to reduce paperwork and respondent burden, invites the general public and other Federal agencies to comment on an extension of an existing information collection, as required by the Paperwork Reduction Act of 1995, Public Law 104-13 (44 U.S.C. 3506(c)(2)(A)). Currently, the Office of the Assistant Secretary for Financial Markets, within the Department of the Treasury, is soliciting comments concerning the New Issue Bond Program and Temporary Credit and Liquidity Program.

DATES: Written comments should be received on or before December 23, 2014 to be assured of consideration.

ADDRESSES: Send comments regarding the burden estimate, or any other aspect of the information collection, including suggestions for reducing the burden, via the federal eRulemaking portal, http://www.regulations.gov, following the instructions for submitting comments; by fax to (202) 622-8722, Attn: Request for Comments (SBLF Quarterly Supplemental Reports); or by mail to Office of Domestic Finance, Department of the Treasury, 1500 Pennsylvania Avenue NW., Washington, DC 20220, Attn: Request for Comments (SBLF Quarterly Supplemental Reports).

FOR FURTHER INFORMATION CONTACT: Requests for additional information should be directed to Manager (Communications, Research and External Affairs), Small Business Lending Fund, Office of Domestic Finance, Department of the Treasury, 1500 Pennsylvania Avenue NW., Washington, DC 20220.

SUPPLEMENTARY INFORMATION:

OMB Control Number: 1505-0228.

Title: Small Business Lending Fund (SBLF) Supplemental Reports.

Abstract: Once accepted into the SBLF program, a bank is required to submit a Supplemental Report each quarter. The Supplemental Report serves two purposes.

First, the Quarterly Supplemental Report is used to determine the bank's small business lending baseline. A bank's initial dividend rate is based on the increase in small business lending (over this baseline) in the quarters from October 2010 through September 2013. In addition, a bank's dividend rate is now locked based on the results from its increase or decrease of qualified small business lending (versus the baseline) as of September 30, 2013.

Second, every quarter thereafter, the bank files a Supplemental Report quarterly so that Treasury can assess the change in the small business lending for the previous quarter. That change from the historical baseline is used to set the dividend rate for the next quarter.

Type of Review: Extension of a currently approved collection.

Affected Public: Businesses or other for-profits.

Estimated Number of Respondents: 288.

Estimated Annual Hours per Response: 3.5 hours.

Estimated Total Annual Burden Hours: 4,032.

Request for Comment: Comments submitted in response to this notice will be summarized and included in the request for Office of Management and Budget approval. All comments will become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: October 21, 2014.
Brenda Simms,
Treasury PRA Clearance Officer.

[FR Doc. 2014-25351 Filed 10-23-14; 8:45 am]

BILLING CODE 4810-25-P